DEPARTMENT OF COMMERCE

International Trade Administration

A-570-875

Non-Malleable Cast Iron Pipe Fittings from the People's Republic of China: Extension of Time Limit for the Final Results of the Antidumping Duty Administrative Review

AGENCY: Import Administration, International Trade Administration, Department of Commerce.

EFFECTIVE DATE: October 30, 2006.

FOR FURTHER INFORMATION CONTACT: Eugene Degnan, AD/CVD Operations, Office 8, Import Administration, International Trade Administration, U.S. Department of Commerce, 14th Street and Constitution Avenue, NW, Washington, DC 20230; telephone: (202) 482-0414.

SUPPLEMENTARY INFORMATION:

Background

On May 25, 2006, the Department published in the Federal Register its preliminary results of the second administrative review on non-malleable cast iron pipe fittings from the People's Republic of China (“PRC”). See Non-Malleable Cast Iron Pipe Fittings from the People's Republic of China: Preliminary Results of Antidumping Duty Administrative Review, 71 FR 30116 (May 25, 2006) (“Preliminary Results”). On September 12, 2006, the Department published in the Federal Register a notice extending the time limit for the final results of the administrative review from September 22, 2006, to October 23, 2006. See Extension of Time Limit for the Final Results of the Antidumping Duty Administrative Review: Non-Malleable Cast Iron Pipe Fittings from the People's Republic of China, 71 FR 53661 (September 12, 2006). The final results of this administrative review are currently due no later than October 23, 2006.

Extension of Time Limit of Final Results

Section 751(a)(3)(A) of the Tariff Act of 1930, as amended (“the Act”), requires the Department to issue final results within 120 days of the date on which the preliminary results are published. However, if it is not practicable to complete the review within this time period, section 751(a)(3)(A) of the Act allows the Department to extend the extend the 120-day period to a maximum of 180 days. Completion of the final results of this review within the 120-day period is not practicable because the Department needs additional time to evaluate the arguments and issues raised by the petitioners and respondents in their respective case briefs and rebuttal briefs.

Because it is not practicable to complete this review within the time specified under the Act, we are extending the time period for issuing the final results of review an additional 19 days to 169 days, in accordance with section 751(a)(3)(A) of the Act. Therefore, the final results will be due no later than November 10, 2006. This notice is published pursuant to sections 751(a) and 777(i) of the Act.

Dated: October 19, 2006.
Stephen J. Claeys,
Deputy Assistant Secretary for Import Administration.

[FR Doc. E6-18178 Filed 10-27-06; 8:45 am]

BILLING CODE 3510-DS-S